FEDERAL COMMUNICATIONS COMMISSION

Open Commission Meeting, Thursday, August 2, 2018

July 26, 2018.

The Federal Communications Commission will hold an Open Meeting on the subjects listed below on Thursday, August 2, 2018 which is scheduled to commence at 10:30 a.m. in Room TW-C305, at 445 12th Street SW, Washington, DC.

Item No. | Bureau | Subject
1 | Wireless Tele-Communications | Title: Auctions of Upper Microwave Flexible Use Licenses for Next-Generation Wireless Services; Minimum Opening Bids, Upfront Payments, and Other Procedures for Auctions 101 (28 GHz) and 102 (24 GHz) (AU Docket No. 18-85).
|  | Summary: The Commission will consider a Public Notice establishing application and bidding procedures for auctioning Upper Microwave Flexible Use Licenses in the 28 GHz (Auction 101) and 24 GHz (Auction 102) bands.
2 | Wireless Tele-Communications | Title: Use of Spectrum Bands Above 24 GHz For Mobile Radio Services (GN Docket No. 14-177).
|  | Summary: The Commission will consider a Further Notice of Proposed Rulemaking proposing an auction mechanism that would transition existing spectrum holdings in the 39 GHz band (38.6-40 GHz) to a new flexible-use band plan and would offer new licenses for contiguous spectrum in the band.
3 | Wireline Competition and Wireless Tele-Communications | Title: Accelerating Wireline Broadband Deployment by Removing Barriers to Infrastructure Investment (WC Docket No. 17-84), (WT Docket No. 17-79).
|  | Summary: The Commission will consider a Report and Order that will allow one-touch make-ready for most pole attachments and further reform its pole attachment process, and a Declaratory Ruling that will conclude that section 253(a) prohibits state and local moratoria on telecommunications facilities deployment.
4 | Wireline Competition | Title: Promoting Telehealth for Low-Income Consumers (WC Docket No. 18-213).
|  | Summary: The Commission will consider a Notice of Inquiry on creating a Universal Service Fund pilot program to promote the use of telehealth services among low-income Americans.
5 | Media | Title: LPTV, TV Translator, and FM Broadcast Station Reimbursement (MB Docket No. 18-214); Expanding the Economic and Innovation Opportunities of Spectrum Through Incentive Auctions (GN Docket No. 12-268).
|  | Summary: The Commission will consider a Notice of Proposed Rulemaking and Order that begins the process of implementing Congress's directive in the Reimbursement Expansion Act that the Commission reimburse certain low power television, television translator, and FM broadcast stations for costs incurred as a result of the Commission's broadcast television spectrum incentive auction.
6 | Media | Title: Rules and Policies to Promote New Entry and Ownership Diversity in the Broadcasting Services (MB Docket No. 17-289).
|  | Summary: The Commission will consider a Report and Order establishing the requirements which will govern an incubator program that seeks to promote the entry of new and diverse voices into the broadcast industry.
7 | Office of Managing Director | Title: Office of Managing Director Personnel Action #75.
|  | Summary: The Commission will consider a personnel action.
* * * * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene Dortch,
Secretary.

[FR Doc. 2018-16586 Filed 8-2-18; 8:45 am]

BILLING CODE 6712-01-P